DEPARTMENT OF HOMELAND SECURITY

8 CFR Parts 103 and 235

[Docket No. USCBP-2013-0029: CBP Decision No. 14-05]

RIN 1651-AB01

The U.S. Asia-Pacific Economic Cooperation Business Travel Card Program

AGENCY: U.S. Customs and Border Protection. DHS.

ACTION: Interim final rule.

SUMMARY: This interim final rule establishes the U.S. Asia-Pacific Economic Cooperation (APEC) Business Travel Card Program. APEC is an economic forum comprised of twenty-one members, including the United States, whose primary goal is to support sustainable economic growth and prosperity in the Asia-Pacific region. One of APEC's initiatives is the APEC Business Travel Card Program. The U.S. APEC Business Travel Card Program will provide qualified U.S. business travelers engaged in business in the APEC region or U.S. Government officials actively engaged in APEC business the ability to access fast-track immigration lanes at participating airports in foreign APEC economies. This rule sets forth the parameters of the program, the eligibility requirements, the application procedures, the duration of the program and the fee. In accordance with the authorizing law, DHS will not issue any new U.S. APEC Business Travel Cards or renew any U.S. APEC Business Travel Cards after September 30, 2018. Unless the law is amended to extend the duration of the U.S. APEC Business Travel Card Program, all U.S. APEC Business Travel Cards will expire by September 29, 2021.

DATES: This interim final rule is effective on June 12, 2014. Comments must be received on or before June 12, 2014.

ADDRESSES: You may submit comments, identified by docket number USCBP-2013-0029, by one of the following methods:

• Federal eRulemaking Portal: http://www.regulations.gov. Follow the instructions for submitting comments.

• Mail: Border Security Regulations Branch, Regulations and Rulings, Office of International Trade, U.S. Customs and Border Protection, 90 K Street NE., 10th Floor, Washington, DC 20229-1177.

Instructions: All submissions received must include the agency name and docket title for this rulemaking, and must reference docket number USCBP-2013-0029. All comments received will be posted without change to http://www.regulations.gov, including any personal information provided. For detailed instructions on submitting comments and additional information on the rulemaking process, see the “Public Participation” heading of the SUPPLEMENTARY INFORMATION section of the document.

Docket: For access to the docket to read background documents or comments received, go to http://www.regulations.gov. Submitted comments may also be inspected during regular business days between the hours of 9 a.m. and 4:30 p.m. at the Office of International Trade, Customs and Border Protection, 90 K Street NE., 10th Floor, Washington, DC. Arrangements to inspect submitted comments should be made in advance by calling Mr. Joseph Clark at (202) 325-0118.

FOR FURTHER INFORMATION CONTACT: Mr. David Sanchez, Office of Field Operations, (202) 344-1004, David.Sanchez@cbp.dhs.gov.

SUPPLEMENTARY INFORMATION:

Table of Contents

I. Public Participation

II. Background

A. The Asia-Pacific Economic Cooperation (APEC)

B. The APEC Business Travel Card Program

1. ABTC Program Operating Framework

2. Standards for ABTCs

C. U.S. Participation in ABTC

1. U.S. APEC Business Travel Card (ABTC) Program

2. General Description

3. Eligibility Requirements

a. Global Entry

b. NEXUS

c. SENTRI

d. Eligibility Requirements of Global Entry, NEXUS and SENTRI

4. Conditions for Use of the U.S. ABTC

5. U.S. ABTC Application Process/Payment of Fee

6. Validity Period

7. Expedited Entry Privileges

8. Entry Requirements

9. Denial, Removal and Suspension

10. Redress Procedures

11. Duration of U.S. ABTC Program

D. Payment of U.S. ABTC Fee

III. Statutory and Regulatory Requirements

A. Administrative Procedure Act

B. Executive Order 12866 and Executive Order 13563

1. Synopsis

2. Background

3. U.S. ABTC Applicant Categories

a. U.S. ABTC Applicants Who Are Currently Members of a CBP Trusted Traveler Program

b. U.S. ABTC Applicants Who Are Not Currently Members of a CBP Trusted Traveler Program

4. Number of U.S. ABTC Applicants

5. Cost

6. Benefits

7. Net Benefits

C. Regulatory Flexibility Act

D. Unfunded Mandates Reform Act of 1995

E. Executive Order 13132

F. Paperwork Reduction Act

G. Privacy

H. Signing Authority

IV. Authority

List of Subjects

Amendments to Regulations

I. Public Participation

Interested persons are invited to participate in this rulemaking by submitting written data, views, or arguments on all aspects of the rule. Comments that will provide the most assistance will reference a specific portion of the rule, explain the reason for any recommended change, and include data, information, or authority that support such recommended change.

II. Background

A. The Asia-Pacific Economic Cooperation (APEC)

The United States is a member of APEC, which is an economic forum comprised of twenty-one members whose primary goal is to support sustainable economic growth and prosperity in the Asia-Pacific region.¹ The other members include: Australia, Brunei Darussalam, Canada, Chile, China, Hong Kong China, Indonesia, Japan, Korea, Malaysia, Mexico, New Zealand, Papua New Guinea, Peru, Philippines, Russia, Singapore, Chinese Taipei, Thailand, and Vietnam. One of APEC's primary goals is to facilitate business by reducing the costs of business transactions and to help importers and exporters in the Asia-Pacific region meet to conduct business more efficiently. APEC is committed to facilitating travel for qualified business people within the APEC region by promoting free, open trade and investment.

¹ APEC members are also referred to as `economies' since the APEC process is primarily concerned with trade and economic issues with the members engaging each other as economic entities. The most recently updated list of members is available at the APEC Web site at www.apec.org/About-Us/About-APEC/Member-Economies.aspx. For simplicity, we will generally refer to them in the preamble of this document as APEC members.

B. The APEC Business Travel Card Program

One of APEC's business facilitation initiatives is the APEC Business Travel Card (ABTC) Program. Under the ABTC Program, APEC members can issue cards to business travelers and senior government officials who meet certain standards established by the members to provide simpler short-term entry procedures within the APEC region. Applicants are screened against security and immigration databases to ensure that they are trusted travelers, and must be pre-cleared by participating members to receive the card.

1. ABTC Program Operating Framework

All twenty-one APEC members participate in the ABTC Program and intend to follow the operating procedures set out in the APEC Business Travel Card Operating Framework, dated October 2010 (“APEC Framework”).² The APEC Framework distinguishes between fully participating and transitional APEC members for purposes of the ABTC Program. Transitional members meet some, but not all, of the APEC Framework's principles and are committed to progressing towards meeting all the principles.

² Although participating members agree to adhere to the operating principles and procedures outlined, the document is not legally binding.

Of the twenty-one APEC members, nineteen are full members and two are transitional members of the ABTC Program. All nineteen fully participating APEC members currently issue ABTCs to their qualifying citizens and allow other members' card holders to apply for “pre-clearance.” ³ Full members do not require any ABTC holders they have already pre-cleared to make a separate application for a business visa for travel to their member economy and expedited immigration processing when they arrive. Canada and the United States are currently transitional members because they do not offer visa-free travel for ABTC holders unless they otherwise qualify for visa-free travel, and they do not accept an application for ABTC pre-clearance in lieu of a visa application and applicable fees.

³ The term pre-clearance as used in the APEC Framework has a different meaning than the usual meaning ascribed to that term by CBP, which is the tentative examination and inspection of air travelers and their baggage at foreign places where CBP personnel are stationed for that purpose.

Under the APEC Framework, the ABTC enables access to fast-track immigration lanes at members' participating airports. All APEC members have fast-track immigration lanes for priority processing. In addition, under the APEC Framework, fully participating members may provide “pre-clearance benefits” to card holders of other fully participating members, meaning that the pre-cleared card holders would not need to complete a separate application for visas or entry permits to travel to the territory of other participating APEC members. Most fully participating ABTC member economies accept the ABTC in lieu of a visa for a pre-cleared card holder during the entire time the ABTC is valid. Pursuant to the APEC Framework, the card holder may also need to present a valid passport or other documentation (such as an arrival/departure card). Fully participating members may choose to provide full “pre-clearance benefits” to any transitional member whether or not the transitional member provides similar full “pre-clearance benefits.” The ABTC Program does not affect the right of each member economy to determine who may travel to, enter and remain in that economy, including ABTC holders.

2. Standards for ABTCs

According to the APEC Framework, each APEC member can either issue its own ABTCs or have a private entity issue them on its behalf. In either case, the APEC member may only issue an ABTC to its own citizens.⁴ The design and content of the card is set out in the APEC Framework. The card follows standards produced by the International Civil Aviation Organization (ICAO) and includes: the card holder's signature, the document number, the issuing economy, the document type code, the document expiration date, and the surname and given name, sex and date of birth, and economy of the card holder.

⁴ In the case of Hong Kong China, ABTCs may be issued to Hong Kong China permanent residents who hold Hong Kong permanent identity cards. See APEC Framework 3.1.2.

Individuals may apply for the ABTC if they: are citizens of a participating economy ⁵; have never been convicted of a criminal offense; hold a valid passport issued by the home economy ⁶; and are bona fide business persons engaged in business who may need to travel frequently on short-term visits within the APEC region to fulfill business commitments. A bona fide business person is defined in the APEC Framework as a person who is engaged in the trade of goods, the provision of services, or the conduct of investment activities.

⁵ In the case of Hong Kong China, this applies to its permanent residents who hold Hong Kong permanent identity cards.

⁶ In the case of Hong Kong China, this applies to its permanent residents who hold a Hong Kong Special Administrative Region passport or a valid travel document issued by another country or territory.

In addition, senior Government officials or other government officials actively engaged in APEC business may be eligible for an ABTC. Each APEC member determines its own definition of the term “senior Government official.”

According to the APEC Framework, the following persons are not eligible for ABTCs: The business person's dependent spouse and children; persons who wish to engage in paid employment (obtain a paid employment position located in a foreign APEC economy) or a working holiday; and professional athletes, news correspondents, entertainers, musicians, artists, or persons engaged in similar occupations. These eligibility requirements apply whether the individual is a citizen ⁷ of a transitional or fully participating member. The APEC Framework provides that members may impose additional eligibility criteria.

⁷ In the case of Hong Kong China, ABTCs may be issued to Hong Kong China permanent residents who hold Hong Kong permanent identity cards.

Under the APEC Framework, APEC members may charge a fee to issue the ABTC, which is valid for three years from the date of issuance or the date the ABTC card holder's passport expires if that is earlier. The ABTC is not transferable. Although not explicitly stated in the APEC Framework, in order to continue receiving benefits, an ABTC holder must renew his or her ABTC and pay any requisite fee prior to the ABTC expiration. For more information on APEC and the ABTC, please refer to http://www.apec.org/.

C. U.S. Participation in ABTC

As a member of APEC, the United States recognizes ABTCs from other members and provides fast track immigration processing lanes, typically allowing ABTC holders to use diplomatic or crew lines at airports. However, as a transitional member in the ABTC Program, the United States does not offer visa-free travel for ABTC holders from economies that do not participate in the Visa Waiver Program or otherwise have visa free travel to the U.S., and does not accept an ABTC pre-clearance application in lieu of a visa application. ABTC holders entering the United States are subject to the inspection process that is applicable to other travelers, including the presentation of valid passports and, where applicable, valid visas.⁸ Although the United States requires visas for ABTC holders to travel to the United States, it affords ABTC holders from APEC members expedited visa interview scheduling at embassies and consulates abroad. All U.S. embassies and consulates in APEC member economies have procedures to expedite the scheduling of visa interviews for ABTC holders seeking to travel to the United States.

⁸ As provided in the APEC Framework, the ABTC scheme does not affect the right of each APEC economy to determine who may travel to, enter and remain in that economy, including after a business person has been issued an ABTC. Therefore, the issuance of a U.S. ABTC to a qualifying individual does not affect the right of a foreign APEC economy to determine whether the U.S. ABTC holder may travel to, enter and remain in that economy.

The United States currently does not issue ABTCs to U.S. citizens.⁹ Therefore, U.S. travelers visiting other APEC members do not receive similar expedited processing that individuals from other APEC members receive when they visit the United States.

⁹ The purpose of this regulation is to issue U.S. ABTCs to U.S. citizens.

On November 12, 2011, President Obama signed the Asia-Pacific Economic Cooperation Business Travel Cards Act of 2011 (APEC Act). Public Law 112-54, 125 Stat. 550. The APEC Act authorizes the Secretary of Homeland Security, in coordination with the Secretary of State, to issue U.S. ABTCs through September 30, 2018, to any eligible person, including business persons and U.S. Government officials actively engaged in APEC business. The APEC Act also authorizes the Secretary of Homeland Security to prescribe and collect a fee for the issuance of U.S. ABTCs. The APEC Act provides that an individual may not receive a U.S. ABTC unless the individual has been approved and is in good standing in an international trusted traveler program of DHS.

The APEC Act authorizes the Secretary of Homeland Security, in coordination with the Secretary of State, to prescribe the necessary regulations, including regulations regarding conditions of or limitations on eligibility for an ABTC. The APEC Act also provides that the Secretary of Homeland Security may consult with the appropriate private sector entities.

DHS has consulted closely with the Department of State regarding the establishment and policies of the U.S. ABTC Program. DHS has also consulted with the private sector through its participation in a discussion panel at the Asia-Pacific Council of American Chamber of Commerce and attendance at the APEC Business Mobility Group meetings.¹⁰

¹⁰ APEC Business Advisory Council representatives are invited to attend the APEC Business Mobility Group meetings.

As a result of the APEC Act and DHS's consultation with the Department of State and the private sector, DHS is establishing a U.S. ABTC Program and plans to issue its own ABTCs (U.S. ABTCs). This action will allow U.S. citizens traveling to other APEC members to receive expedited processing that individuals from other APEC members receive when they visit the United States.

1. U.S. APEC Business Travel Card (ABTC) Program

This rule promulgates regulations that adhere to the current APEC Framework ¹¹ as of the publication of this rule and implement the U.S. ABTC Program and fee. 8 CFR 235.13 and 8 CFR 103.7(b)(1)(ii)(N). Section 235.13 includes a general description of the program, eligibility requirements, application procedures, enrollment period, and the requirement to pay an application fee as specified in section 103.7(b)(1)(ii)(N). Section 103.7(b)(1)(ii)(N) specifies the amount of the fee.

¹¹ The current version of the APEC Framework is Version 17, agreed to on January 30, 2013. Any subsequent revisions to the APEC Framework that directly affect the U.S. ABTC may require a regulatory change.

2. General Description

The U.S. ABTC Program is a voluntary program designed to facilitate travel for bona fide U.S. business persons engaged in business in the APEC region and U.S. government officials actively engaged in APEC business within the APEC region. Participants who receive a U.S. ABTC will be able to access fast-track immigration lanes at participating airports in foreign APEC member economies. See 8 CFR 235.13(a). A list of the airports where ABTC holders may access fast-track immigration lanes is available at http://travel.apec.org/abtc-summary.html.

3. Eligibility Requirements

This rule sets forth eligibility criteria for the U.S. ABTC Program that satisfy the requirements of the APEC Framework and the APEC Act. First, in accordance with the APEC Framework, to participate in the U.S. ABTC Program, the individual must be a U.S. citizen.

Second, this rule requires that the individual must be a bona fide business person engaged in business in the APEC region or a U.S. Government official actively engaged in APEC business. The rule defines several terms to determine whether an individual is eligible to participate in the program. For purposes of this rule only, DHS defines the APEC Framework term “senior Government official” to mean a U.S. Government official actively engaged in APEC business. DHS defines “APEC business” to mean U.S. government activities that support the work of APEC. Pursuant to the APEC Framework, a “bona fide business person engaged in business in the APEC region” means a person engaged in the trade of goods, the provision of services or the conduct of investment activities in the APEC region. As specified in the APEC Framework, professional athletes, news correspondents, entertainers, musicians, artists or persons engaged in similar occupations are not considered to be bona fide business travelers engaged in business in the APEC region.

Finally, this rule requires that the individual be an existing member in good standing of a CBP trusted traveler program or one who is approved for membership in a CBP trusted traveler program during the U.S. ABTC application process. This trusted traveler criterion is included in the APEC Act. Although the APEC Act refers to membership in a DHS trusted traveler program, not all DHS trusted traveler programs are compatible with U.S. ABTC travel. Therefore, DHS has limited eligibility to participants of the trusted traveler programs that are conducive with the type of international travel contemplated by the U.S. ABTC Program. These trusted traveler programs include: (a) Global Entry, (b) NEXUS, and (c) Secure Electronic Network for Travelers Rapid Inspection (SENTRI). These three CBP trusted traveler programs fit the parameters of the U.S. ABTC Program due to their eligibility requirements, vetting process and expedited processing at ports of entry.¹²

¹² Other DHS trusted traveler programs such as FAST and TSA Precheck do not fit the parameters of the U.S. ABTC Program due to their vetting process and their inapplicability to international air travel.

a. Global Entry

Global Entry is a voluntary international trusted traveler program that allows for the expedited clearance of pre-approved, low-risk travelers arriving in the United States at Global Entry kiosks located at designated airports. See 8 CFR 235.12. More information about the program is available at http://www.globalentry.gov.

b. NEXUS

NEXUS is a jointly administered U.S.-Canada trusted traveler program established in 2002 as part of the U.S.-Canada Shared Border Accord. NEXUS allows pre-approved, low-risk travelers expedited processing for land, air and sea travel between the United States and Canada at dedicated processing lanes at designated northern border land ports of entry, at NEXUS kiosks at U.S. pre-clearance airports in Canada, and at marine reporting locations. Additionally, NEXUS participants may utilize Global Entry kiosks. An applicant may qualify to participate in NEXUS if he or she is a citizen or lawful permanent resident of the United States or Canada. To participate in NEXUS, both the United States and Canada must approve the individual's application. Additional details regarding the NEXUS trusted traveler program may be found at http://www.globalentry.gov/nexus.html.

c. SENTRI

The SENTRI trusted traveler program allows pre-approved, low-risk travelers expedited entry at specified land border ports along the U.S.-Mexico border. Additionally, SENTRI participants may utilize Global Entry kiosks. The program is described in 8 CFR 235.7.¹³ Additional details regarding the SENTRI trusted traveler program can be found at http://www.globalentry.gov/sentri.html.

¹³ SENTRI is also referred to as a PortPass program. Section 235.7 is the PortPass program regulation.

d. Eligibility Requirements of Global Entry, NEXUS, and SENTRI

In general, to participate in any of these three CBP trusted traveler programs, a person must meet the eligibility requirements, apply in advance, pay the requisite non-refundable fee, undergo vetting by CBP, and be accepted into the program. All applicants must voluntarily undergo a thorough background check against criminal, law enforcement, customs, immigration, intelligence, and terrorist databases, a 10-fingerprint law enforcement check, and a personal interview with a CBP officer. Persons who, for example, have been convicted of a criminal offense may not be eligible for participation in CBP's trusted traveler programs. Travelers who wish to participate in Global Entry, NEXUS or SENTRI must apply via the Global On-Line Enrollment System (GOES) Web site, https://goes-app.cbp.dhs.gov, or other CBP-approved process. Applications must be completed and submitted electronically. After submitting the application, the applicant will be notified by CBP to schedule an in-person interview at one of the enrollment centers.

Each applicant accepted into a CBP trusted traveler program is accepted for a period of five years provided participation is not suspended or terminated by CBP prior to the end of the five years. Each applicant may apply to renew participation up to one year prior to the close of the participation period.

Under this rule, an individual who wants to apply for the U.S. ABTC Program and is not a member of a CBP trusted traveler program must also apply for a CBP trusted traveler program. An individual may either apply to a CBP trusted traveler program in advance of applying for a U.S. ABTC or may apply concurrently with the U.S. ABTC Program application. The details are explained in the section below entitled U.S. ABTC Application Process.

4. Conditions for Use of the U.S. ABTC

This rule specifies that pursuant to the APEC Framework, the U.S. ABTC is not transferable and may be used only by the U.S. ABTC holder and not anyone else including the card holder's spouse or child. It also provides that pursuant to the APEC Framework, in order to use the U.S. ABTC, the card holder must be traveling solely for business purposes in the foreign APEC economy and not engaging in paid employment in the foreign APEC economy. As stated in the APEC Framework, the ABTC is intended for business persons who travel frequently on short term visits within the APEC region to fulfill business commitments.

5. U.S. ABTC Application Process/Payment of Fee

Under this rule, each applicant must complete and submit an application electronically through the GOES Web site or other approved process as determined by CBP. The current process is GOES. If CBP changes the approved process for submitting an application, the public will be notified through a Federal Register notice and the CBP Web site, http://www.globalentry.gov. To apply for a U.S. ABTC, an individual must apply via the GOES Web site, https://goes-app.cbp.dhs.gov. This is the same Web site that is used to apply for CBP's trusted traveler programs. A detailed description of the GOES process is contained in 8 CFR 235.12.

If the applicant is not already a member of a CBP trusted traveler program, he or she must also apply for a CBP trusted traveler program in GOES. Active membership in a CBP trusted traveler program is necessary for the entire duration of the U.S. ABTC. If membership in the CBP trusted traveler program is set to lapse before the U.S. ABTC expires, the individual must renew his or her CBP trusted traveler membership prior to expiration in order to retain membership in the U.S. ABTC Program.

To apply for the U.S. ABTC, the applicant checks the box in GOES indicating that he or she wishes to apply for the U.S. ABTC. The applicant is then prompted to the self-certification screen. This self-certification process requires the applicant to certify that he or she is an existing member in good standing in a CBP trusted traveler program or that he or she has submitted an application to a CBP trusted traveler program (indicating that CBP will verify that the individual is a trusted traveler); that he or she is either a bona fide U.S. business person engaged in business in the APEC region or a U.S. Government official actively engaged in APEC business; and that he or she is not a professional athlete, news correspondent, entertainer, musician, artist or person engaged in a similar occupation. The applicant must also provide a signature that will appear on the U.S. ABTC. CBP will collect the applicant's signature at a CBP trusted traveler enrollment center. The locations of enrollment centers are specified at http://globalentry.gov/enrollmentcenters2.html. The applicant must schedule an appointment at any enrollment center so that CBP can collect the signature. The collection will be performed by the applicant signing an electronic signature pad.

If the applicant is concurrently applying for NEXUS, SENTRI or Global Entry, an in-person interview with a CBP officer and vetting of the application is required as part of the CBP trusted traveler enrollment process. If the applicant is already a member of the CBP trusted traveler program and wishes to apply for a U.S. ABTC, he or she would select the U.S. ABTC option on GOES as an add-on, provide the self-certification, and pay the associated U.S. ABTC non-refundable fee. In such case, no additional interview is necessary. However, the applicant would still need to go to any enrollment center for the signature collection.

Each applicant must pay a non-refundable fee to be paid to CBP at the time of application through the Federal Government's on-line payment system, Pay.gov or another CBP-approved process. DHS has determined that the U.S. ABTC fee is $70. This fee calculation is described in Section II.E. below entitled “Payment of U.S. ABTC Fee.” This fee is in addition to the CBP trusted traveler program fee. Upon payment of the U.S. ABTC fee (and any applicable Global Entry, NEXUS or SENTRI fee), CBP will process the U.S. ABTC application concurrently with the CBP trusted traveler membership application. If the applicant is already a member of a CBP trusted traveler program, the applicant will only need to pay the U.S. ABTC fee.

If the applicant is accepted into the U.S. ABTC Program, CBP will update the applicant's GOES account to reflect this and issue the U.S. ABTC by mail to the mailing address that was provided on the application. CBP will mail the U.S. ABTC to any U.S. or international address provided (with the exception of P.O. Boxes).

6. Validity Period

The U.S. ABTC is valid for three years or until the expiration date of the card holder's passport if that is earlier, provided participation is not suspended or revoked by CBP prior to the end of this period. If the card holder's passport expires prior to the general three year validity period then CBP will issue the U.S. ABTC with a shorter validity period that matches the passport expiration date. CBP can revoke membership if the card holder is no longer a member of a CBP trusted traveler program. CBP will notify an individual of any changes to their U.S. ABTC membership by an electronic letter sent through the individual's GOES account. The letter will explain the reason(s) for the change.

Each U.S. ABTC holder may apply to renew participation prior to the close of the validity period. In accordance with the APEC Act, DHS will not issue any new U.S. ABTCs or renew any U.S. ABTCs after September 30, 2018. In order to renew, the participant must submit a new U.S. ABTC application, pay the U.S. ABTC fee and meet all the eligibility criteria including maintaining active membership in a CBP trusted traveler program. If a U.S. ABTC holder does not renew his or her U.S. ABTC or is no longer eligible for the U.S. ABTC, this does not affect his or her membership in a CBP trusted traveler program. That person would still be considered a full participant in the CBP trusted traveler program for the remaining period of membership. However, as noted above, active membership in the CBP trusted traveler program is necessary for the entire duration of the U.S. ABTC. Membership in a CBP trusted traveler program may be suspended or revoked at any time if the individual is not compliant with the program requirements.¹⁴

¹⁴ See 8 CFR 235.12 for the specific suspension or revocation grounds.

7. Expedited Entry Privileges

U.S. ABTCs will enable access to a dedicated fast-track lane for expedited immigration processing at airports in foreign APEC member economies. As a member of a U.S. CBP trusted traveler program, U.S. ABTC holders may also utilize the Global Entry kiosks at participating airports upon their return to the United States.

8. Entry Requirements

U.S. ABTC holders must present any travel or identity documentation, such as a passport and visa, required by the foreign APEC members. If a U.S. ABTC holder does not conform to the visa, passport or entry requirements mandated by the foreign economy, the card holder may be directed to another lane or be refused entry. It is not expected that foreign APEC members will recognize the U.S. ABTC in lieu of a visa. Therefore, U.S. ABTC holders are still required to obtain visas (where applicable) to visit the 20 foreign APEC members. It is suggested that U.S. ABTC holders check the travel requirements of the APEC member economy to which they are traveling immediately before their travel.

9. Denial, Removal and Suspension

This rule sets forth the notification procedures for an applicant who is denied a U.S. ABTC, and lists the reasons that a U.S. ABTC holder may be suspended or removed from the U.S. ABTC Program. If a U.S. ABTC applicant is denied a U.S. ABTC, CBP will notify the applicant of the denial, the reasons for the denial and provide instructions on the redress methods. Membership in the U.S. ABTC Program may be suspended or revoked at any time if the individual is not compliant with the program requirements. Under this rule, a U.S. ABTC holder may be suspended or removed from the program if he or she provided false information in the application and/or during the application process, failed to follow the terms, conditions, and requirements of the program, or has been arrested or convicted of a crime or otherwise no longer meets the program eligibility criteria.

A U.S. ABTC applicant or U.S. ABTC holder whose application is denied or whose card is suspended or revoked will not receive a refund, in whole or in part, of the U.S. ABTC fee.

10. Redress Procedures

An applicant whose application is denied or whose participation is suspended or terminated has two possible methods for redress. The applicant may contest the termination, suspension or denial by writing to the enrollment center where the applicant's CBP trusted traveler program interview was conducted. If the U.S. ABTC applicant is already a member of a CBP trusted traveler program and wishes to contest the termination, suspension or denial of the U.S. ABTC, the applicant may write to the enrollment center where the applicant provided their signature for the U.S. ABTC. The second method of redress for any applicant is the CBP Trusted Traveler Ombudsman. The regulation below describes these procedures in detail. These processes do not create or confer any legal right, privilege or benefit, and are wholly discretionary on the part of CBP. These same redress procedures are available for the CBP trusted traveler programs.¹⁵

¹⁵ See 8 CFR 235.12. See also http://www.globalentry.gov/nexus.html, and http://www.globalentry.gov/sentri.html. Another redress procedure, DHS Traveler Redress Inquiry Program (DHS TRIP), is available for Global Entry. This method of redress is not available for the U.S. ABTC Program.

11. Duration of U.S. ABTC Program

The APEC Act authorizes the Secretary to issue U.S. ABTCs only through September 30, 2018. Unless the law is amended to extend that date, DHS will not issue any new U.S. ABTCs or renew any U.S. ABTCs after September 30, 2018. More information about the deadlines for applying to the U.S. ABTC Program before DHS ceases the issuance of new U.S. ABTCs or renewals of U.S. ABTCs will be available at http://www.globalentry.gov. U.S. ABTC holders will retain their membership in the U.S. ABTC Program for the full validity period (even if that is after September 30, 2018) unless the membership is suspended or revoked. Unless the law is amended to extend the duration of the U.S. ABTC Program, all U.S. ABTCs will expire by September 29, 2021.

D. Payment of U.S. ABTC Fee

The APEC Act authorizes DHS to collect a fee for the issuance of a U.S. ABTC that is sufficient to offset the direct and indirect costs of the program including the costs associated with establishing the program. CBP conducted a fee study to determine the yearly costs of the program and the cost to establish the program for all relevant parties.¹⁶ As described in the fee study, pursuant to an arrangement with Canada, DHS will also be printing Canadian ABTCs for Canadian citizens and will be collecting (and retaining) the fee from those applicants. The fee study is based on the estimated number of U.S. and Canadian ABTC applicants. U.S. and Canadian citizens will pay the same fee for an ABTC. The Canadian ABTC fee will be collected and retained by the United States to cover the direct and indirect costs associated with the required information technology infrastructure, including the printing of the cards. This arrangement lowers the fee for both U.S. and Canadian ABTC applicants compared to what the fee would be if each country had to build its own information technology infrastructure and print its own cards. A Canadian citizen must be a member of NEXUS and apply for a Canadian ABTC through CBP's GOES Web site.¹⁷

¹⁶ This fee study entitled “Asia-Pacific Economic Cooperation Business Travel Card Fee Study” is posted on the docket as supplemental materials on www.regulations.gov.

¹⁷ Canada will determine whether the Canadian ABTC applicant qualifies for a Canadian ABTC.

DHS has determined that a fee of $70 is necessary to recover the costs associated with the U.S. ABTC Program. As shown in Table 1 below, these costs include the issuance of ABTC cards and the information technology infrastructure costs, initial and recurring, required to run the U.S. ABTC Program.

Table 1
| ABTC Enrollee costs
IT costs | $61
ABTC card cost | 9
Total Cost | 70

CBP is amending 8 CFR 103.7(b)(1)(ii)(N) to reflect this fee. As described in 8 CFR 235.13(c)(5), this non-refundable fee is paid to CBP at the time of the application through the Federal Government's on-line payment system, Pay.gov or other CBP-approved process. The current system is Pay.gov. Pay.gov is a system by which parties can make secure electronic payments to many Federal Government agencies.

III. Statutory and Regulatory Requirements

A. Administrative Procedure Act

The Administrative Procedure Act (APA) generally requires agencies to publish a notice of proposed rulemaking in the Federal Register (5 U.S.C. 553(b)) and provide interested persons the opportunity to submit comments (5 U.S.C. 553(c)). DHS believes that this interim final rule is excluded from APA rulemaking requirements as a foreign affairs function of the United States because it advances the President's foreign policy goal of facilitating business travel within the APEC region and allows the United States to fulfill its obligations under the multilateral APEC agreement. This interim final rule is being implemented pursuant to the current APEC Framework,¹⁸ which the United States and all twenty other APEC members agreed upon in order to simplify entry procedures within the APEC region. The creation of the U.S. ABTC Program facilitates U.S. participation in this multi-lateral international agreement.

¹⁸ APEC Framework, Version 17, agreed to on January 30, 2013.

In addition, pursuant to 5 U.S.C. 553(b)(B), a notice of proposed rulemaking is not required if the agency finds good cause to implement the rule without prior public notice and comment. For the reasons specified below, DHS also has determined that there is good cause to publish this rule without prior public notice and comment procedures.

This rule is a nondiscretionary action as the authorizing statute and the APEC Framework set forth most of the relevant criteria and considerations for the issuance of the U.S. ABTC and provide DHS with little discretion about the U.S. ABTC Program. The authorizing statute specifies eligibility requirements, such as requiring that an applicant must be approved and in good standing in a DHS trusted traveler program, mandates the cost considerations that must be included in the fee determination, and sets forth the sunset provision establishing the duration of the U.S. ABTC Program. The APEC Framework dictates the standards for the card, the remaining eligibility requirements, and the validity period. Therefore, DHS had little discretion in determining who would be eligible for the U.S. ABTC, the conditions for use of the U.S. ABTC, the fee, the validity period, the duration of the program or the privileges granted to U.S. ABTC holders. For these reasons, DHS believes that prior notice and public comment procedure would be impracticable, unnecessary, and contrary to the public interest. Although prior notice and comment is not required, DHS is requesting public comments in this interim final rule and will take into account public comments received before issuing a final rule.

B. Executive Order 12866 and Executive Order 13563

Executive Orders 12866 and 13563 direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been designated a “significant regulatory action” although not economically significant, under section 3(f) of Executive Order 12866. Accordingly, the Office of Management and Budget has reviewed this rule. CBP has prepared the following analysis to help inform stakeholders of the potential impacts of this interim rule.

1. Synopsis

The interim final rule will establish the U.S. ABTC Program. Pursuant to the authorizing statute, the Secretary of Homeland Security is authorized to set a U.S. ABTC Program fee. The statute mandates that if a fee is established, it must be sufficient to offset the direct and indirect costs associated with running the U.S. ABTC Program, including any costs associated with the establishment of the U.S. ABTC Program. CBP has determined a fee of $70 is necessary to recover the costs of administering the U.S. ABTC Program.¹⁹

¹⁹ CBP performed a fee study to determine the yearly costs of the program and the cost to establish the program for all relevant parties. This fee study entitled “Asia-Pacific Economic Cooperation Business Travel Card Fee Study” is posted on the docket as supplemental materials on www.regulations.gov.

As shown in Table 2, in addition to the U.S. ABTC fee, U.S. ABTC applicants will also experience an opportunity cost associated with obtaining a U.S. ABTC. Because participation in a CBP trusted traveler program is a prerequisite for obtaining a U.S. ABTC, those who are not currently members of such a program will need to concurrently apply for a U.S. ABTC and a CBP trusted traveler program and pay the applicable fees. CBP assumes that those not currently in a trusted traveler program will choose Global Entry because it, like the U.S. ABTC, provides expedited clearance in the air environment. The fee for Global Entry is currently $100. We estimate the opportunity cost to obtain a U.S. ABTC for those who are already members of a CBP trusted traveler program to be $67.00. We estimate the opportunity cost to obtain a U.S. ABTC for those who are not members of a CBP trusted traveler program to be $95.52.

The total cost of obtaining a U.S. ABTC will range from $137 for U.S. ABTC applicants who are currently in a CBP trusted traveler program to $266 for U.S. ABTC applicants who are not currently in a CBP trusted traveler program. We will provide additional detail into these estimates later in the analysis. The U.S. ABTC Program is a voluntary program that enables card holders access to fast-track immigration lanes at airports in the 20 foreign APEC member economies. CBP estimates that U.S. ABTC holders will experience a time savings of approximately 43 minutes when clearing foreign immigration services using the fast-track immigration lanes. As the U.S. ABTC program is voluntary, the perceived benefits of reduced wait time have to equal or exceed the cost of the program over three years (validity period of the U.S. ABTC) for potential enrollees to determine whether the program is worthwhile. As shown in Table 2, the total cost of obtaining a U.S. ABTC will range from $137 for U.S. ABTC applicants who are currently in a CBP trusted traveler program to $266 for U.S. ABTC applicants who are not currently in a CBP trusted traveler program. As discussed below in further detail, CBP estimates that a U.S ABTC applicant who is currently enrolled in a CBP trusted traveler program will need to take a minimum of 4 trips for the benefits of the U.S. ABTC Program to exceed the cost associated with joining the program. Additionally, CBP estimates that a U.S. ABTC applicant who is not currently a CBP trusted traveler member will need to take a minimum of 6 round trips between the United States and an APEC economy in order for the benefits of the U.S. ABTC Program to exceed the cost associated with joining the program.

Table 2—Total Cost By Applicant Type
Applicant type | Cost category | Initial costs | Renewal costs
U.S. ABTC Applicants not Currently in a CBP Trusted Traveler Program | U.S. ABTC Fee | $70 | $70
| Global Entry Fee* | $100 | $0
| U.S. ABTC and Global Entry Opportunity Cost † | $95.52 (1.67 hrs) | $66.92 (1.17 hr)
| Total (rounded to nearest $1) | $266 | $137
U.S. ABTC Applicants Currently in a CBP Trusted Traveler Program | U.S. ABTC Fee | $70 | $70
| Global Entry Fee* | n/a | n/a
| U.S. ABTC Opportunity Cost † | $66.92 (1.17 hr) | $66.92 (1.17 hr)
| Total (rounded to nearest $1) | $137 | $137
* CBP anticipates that those U.S. ABTC applicants who must choose a CBP trusted traveler program when applying for the U.S. ABTC will choose to join Global Entry because, like the U.S. ABTC, Global Entry provides expedited clearance in the air environment.
† This value is based off the Department of Transportation's guidance regarding the valuation of travel time for business travelers. “The Value of Travel Time Savings: Departmental Guidance for Conducting Economic Evaluations Revision 2. (See Table 4. Available at http://www.dot.gov/sites/dot.dev/files/docs/vot_guidance_092811c.pdf.)
Note: There are two categories of U.S. ABTC applicants; those who are already part of a CBP trusted traveler program and those who are not. CBP does not account for the cost of joining a CBP trusted traveler program for those applicants who are already current members of a CBP trusted traveler program. These applicants have already, independent of any decision to join the U.S. ABTC Program, determined that the benefits of a CBP trusted traveler program outweigh the costs associated with the program they have chosen to join.

2. Background

The U.S. ABTC Program is a voluntary program that allows U.S. citizens with U.S. ABTCs to use fast-track immigration lanes at airports in the 20 foreign APEC member economies.²⁰ In order to be eligible for a U.S. ABTC, a U.S. citizen is required to be a bona fide business person engaged in business in the APEC region or a U.S. Government official actively engaged in APEC business.²¹ Additionally, the U.S. ABTC applicant must be a member in good standing of a CBP trusted traveler program or approved for membership in a CBP trusted traveler program during the U.S. ABTC application process. U.S. ABTC applicants who are not already CBP trusted traveler program members, must also apply for membership to a CBP trusted traveler program with their U.S. ABTC application.²² Although membership in the CBP trusted traveler programs is valid for five years, the U.S. ABTC is only valid for three years or until the expiration date of the card holder's passport if that is earlier. Similar to the CBP trusted traveler programs, a U.S. ABTC holder will be required to renew his or her membership, prior to expiration, in order to continue receiving the ability to use the APEC fast-track immigration lanes.

²⁰ At this time, U.S. citizens will not realize all the benefits a citizen from a fully participating member will realize. For a description of the benefits available to a citizen of a fully participating member, please see above for section II. B, “The APEC Business Travel Card Program.”

²¹ The ABTC may only be used by a bona fide business person engaged in business in the APEC region or a U.S. Government official actively engaged in APEC business. The card holder must be traveling solely for business purposes in the foreign APEC economy and not engaging in paid employment in the foreign APEC economy. “APEC business” means U.S. government activities that support the work of APEC. A “bona fide business person engaged in business in the APEC region” means a person engaged in the trade of goods, the provision of services or the conduct of investment activities in the APEC region. Professional athletes, news correspondents, entertainers, musicians, artists or persons engaged in similar occupations are not considered to be bona fide business travelers engaged in business in the APEC region.

²² Applicants must be participants in any of the three qualified CBP trusted traveler programs: Global Entry, SENTRI, and NEXUS. A U.S. ABTC applicant has the choice of either applying for a CBP trusted traveler program first and then separately applying for a U.S. ABTC or concurrently applying for both. We note that both fees are non-refundable, so it is possible that an applicant may choose to apply for the programs separately so that if they are denied membership in a CBP trusted traveler program, they do not need to pay the $70 fee for the U.S. ABTC Program. If an applicant chooses to apply for a CBP trusted traveler program and separately apply for a U.S. ABTC then the applicant will experience an additional opportunity cost of 70 minutes (10 minutes to apply for a U.S. ABTC and one hour to travel to and from an enrollment center). Using the estimated value of time for a business traveler ($57.20), this is a monetized opportunity cost of approximately $66.92. In order for U.S. ABTC applicants to be better off applying separately, they must believe that they have at least a 96 percent chance of being denied membership in a CBP trusted traveler program. The actual denial rate for CBP trusted traveler programs is approximately three percent, according to CBP's Office of Field Operations. Therefore, for the purposes of this analysis, CBP assumes that a U.S. ABTC applicant who is not currently a member of a CBP trusted traveler program will concurrently apply for a CBP trusted traveler program and a U.S. ABTC.

3. U.S. ABTC Applicant Categories

There are two categories of U.S. ABTC applicants who we discuss separately in this analysis: those who are already part of a CBP trusted traveler program and those who are not. This is necessary because those applicants who are not already part of a CBP trusted traveler program will bear the additional opportunity cost and fee associated with applying for a CBP trusted traveler program in order to be eligible for a U.S. ABTC.

a. U.S ABTC Applicants Who Are Currently Members of a CBP Trusted Traveler Program

If a U.S. ABTC applicant is already a member of a CBP trusted traveler program, the applicant will have to apply for a U.S. ABTC by self-certifying, via the GOES Web site, that he or she is an existing member in good standing in a CBP trusted traveler program, that he or she is either a bona fide U.S. business person engaged in business in the APEC region or a U.S. Government official actively engaged in APEC business and that he or she is not a professional athlete, news correspondent, entertainer, musician, artist or person engaged in a similar occupation. In addition to the self-certification, the U.S. ABTC applicant will also be required to schedule an appointment at an enrollment center in order for his or her signature to be digitally captured for the U.S. ABTC. CBP estimates that U.S. ABTC applicants will experience an opportunity cost of 10 minutes to complete the U.S. ABTC self-certification, schedule an appointment at an enrollment center, and have their signature digitally captured. As described in the Global Entry final rule,²³ CBP estimated Global Entry applicants would experience an opportunity cost of one hour in to order to travel to an enrollment center for an interview and return home. CBP anticipates that U.S. ABTC applicants who are current members of a CBP trusted traveler program will experience a similar opportunity cost to travel to and from an enrollment center as do Global Entry applicants. For the purposes of this rule, CBP does not account for the cost of joining a CBP trusted traveler program for those applicants that are already current members of a CBP trusted traveler program. These applicants have already, independent of any decision to join the U.S. ABTC Program, determined that the benefits of a CBP trusted traveler program outweigh the costs associated with the program they have chosen to join. To account for these costs and benefits in this rule would double count those costs and benefits as those are the impacts of the trusted traveler program, not of the U.S. ABTC Program.

²³ 77 FR 5681, February 6, 2012.

b. U.S ABTC Applicants Who Are Not Currently Members of a CBP Trusted Traveler Program

An applicant who is not already a member of a CBP trusted traveler program will be required to apply for a U.S. ABTC and a CBP trusted traveler program and self-certify that he or she has submitted an application to a CBP trusted traveler program, that he or she is either a bona fide U.S. business person engaged in business in the APEC region or a U.S. Government official actively engaged in APEC business and that he or she is not a professional athlete, news correspondent, entertainer, musician, artist or person engaged in a similar occupation. Because these applicants would not have joined a CBP trusted traveler program if not for the U.S. ABTC Program, we include the costs and benefits of joining these programs in this analysis.

CBP anticipates that those U.S. ABTC applicants who must choose a CBP trusted traveler program when applying for the ABTC will choose to join Global Entry because, like the U.S. ABTC, Global Entry provides expedited clearance in the air environment. As described in the Global Entry final rule, CBP estimates a Global Entry applicant will experience an opportunity cost of 40 minutes in order to complete the Global Entry application in GOES.²⁴ When concurrently applying for a U.S. ABTC and Global Entry, CBP anticipates the U.S. ABTC applicant will be able to complete the Global Entry application and the U.S. ABTC self-certification, and have their signature digitally captured in the 40 minutes estimated for the Global Entry application.²⁵ In addition to the application and self-certification in GOES, the U.S. ABTC applicant concurrently applying for a U.S. ABTC and Global Entry will be required to schedule an appointment at an enrollment center to receive an interview for Global Entry and have his or her signature digitally captured for a U.S. ABTC. As described in the Global Entry final rule, CBP estimated Global Entry applicants would experience an opportunity cost of one hour in order to travel to an enrollment center for an interview and return home.²⁶

²⁴ 77 FR 5681 (Feb. 6, 2012).

²⁵ As described above, the self-certification only entails certifying in GOES that the U.S. ABTC applicant is an existing member in good standing in a CBP trusted traveler program or that he or she has submitted an application to a CBP trusted traveler program, that he or she is either a bona fide U.S. business person engaged in business in the APEC region or a U.S. Government official actively engaged in APEC business and that he or she is not a professional athlete, news correspondent, entertainer, musician, artist or person engaged in a similar occupation.

²⁶ 77 FR 5681 (Feb. 6, 2012).

4. Number of U.S. ABTC Applicants

The National Center for Asia-Pacific Economic Cooperation (NCAPEC) ²⁷ estimates that 10,500 to 15,000 U.S. citizens will enroll in the U.S. ABTC Program within the first three years of the program. Using the NCAPEC estimate, CBP estimates that 12,750, or the average of the lower and upper bound NCAPEC estimate, will enroll in the U.S. ABTC Program within the first three years of the program starting.²⁸ CBP seeks comment on this estimate.

²⁷ NCAPEC is a U.S. business association focused on facilitating the private sector input into the APEC process.

²⁸ See http://csis.org/publication/why-us-approval-apec-business-travel-card-matters.

CBP subject matter experts anticipate that most U.S. ABTC applicants will apply for a U.S. ABTC in the first year and that applications will gradually diminish over the following two years. As such, CBP has weighted each year's U.S. ABTC applicants using the sum-of-years' digits method. Typically used for the depreciation of assets, this weighting method provides an efficient and unbiased method to gradually diminish projected new ABTC enrollees over the first three operating years of the U.S. ABTC Program, to total 12,750 U.S. enrollments over the three year period. Furthermore, CBP estimates that each initial U.S. ABTC enrollment will be renewed upon the expiration of its three year validation period. It is possible, however, that the initial enrollee will change to a job function that does not require conducting APEC business.²⁹ In these cases, CBP assumes that the individual's replacement in that position will enroll in the U.S. ABTC Program, in lieu of the original enrollee, in order to benefit from the expedited immigration process while visiting APEC member economies. Table 3 presents our projected ABTC enrollments during the period of analysis. For simplicity of the analysis, CBP counts both the original U.S. ABTC holder who renews and any replacement applicants, if applicable, as a renewal in Table 3. For the purposes of this analysis, we will assume CBP starts processing U.S. ABTC enrollments in Fiscal Year (FY) 2013 and no new U.S. ABTCs will be issued after the end of FY 2018. Enrollments are not forecasted further because the statute authorizing the U.S. ABTC expires in FY 2018 unless Congress authorizes an extension.

²⁹ Thus, this enrollee would no longer be eligible for an ABTC.

³⁰ Although the accompanying U.S. ABTC Fee Study includes an additional 5,000 Canadian enrollments for whom CBP will provide ABTCs, as these enrollees are not members of the U.S. ABTC Program and CBP is reimbursed for the costs of processing their applications, we exclude them from this analysis.

Table 3
Fiscal Year | Projected U.S. ABTC enrollments ³⁰: Initial | Projected U.S. ABTC enrollments ³⁰: Renewals | Projected U.S. ABTC enrollments ³⁰: Total
2013 | 6,375 |  | 6,375
2014 | 4,250 |  | 4,250
2015 | 2,125 |  | 2,125
2016 |  | 6,375 | 6,375
2017 |  | 4,250 | 4,250
2018 |  | 2,125 | 2,125
Total | 12,750 | 12,750 | 25,500

As discussed above, U.S. ABTC applicants will either be current members of a CBP trusted traveler program or will be required to concurrently apply for a U.S. ABTC and a CBP trusted traveler program. CBP subject matter experts anticipate that half of the U.S. ABTC applicants will not be current members of a CBP trusted traveler program. In an effort to mitigate the possibility of over- or under-estimating the number of U.S. ABTC applicants required to concurrently apply to a CBP trusted traveler program, however, CBP has provided a sensitivity analysis in Table 4 reflecting varying percentages of U.S. ABTC applicants who are not current members of a CBP trusted traveler program.

Table 4
Fiscal year | Initial projected ABTC enrollments from Table 3 | Percent of projected ABTC enrollees not currently in a Trusted Traveler Program ³¹: Low 25% | Percent of projected ABTC enrollees not currently in a Trusted Traveler Program ³¹: Primary 50% | Percent of projected ABTC enrollees not currently in a Trusted Traveler Program ³¹: High 75%
2013 | 6,375 | 1,594 | 3,188 | 4,781
2014 | 4,250 | 1,063 | 2,125 | 3,188
2015 | 2,125 | 531 | 1,063 | 1,594
2016 |  |  |  |
2017 |  |  |  |
2018 |  |  |  |
Total | 12,750 | 3,188 | 6,376 | 9,563

5. Cost

CBP has determined that a fee of $70 is necessary to recover the costs associated with the U.S. ABTC Program. These costs include the cost to issue the U.S. ABTCs and the information technology infrastructure costs, initial and recurring, required to run the U.S. ABTC Program.³²

³¹ Although the accompanying U.S. ABTC Fee Study includes an additional 5,000 Canadian enrollments for whom CBP will provide ABTCs, as these enrollees are not members of the U.S. ABTC Program and CBP is reimbursed for the costs of processing their applications, we exclude them from this analysis.

³² CBP performed a fee study to determine the yearly costs of the program and the cost to establish the program for all relevant parties. This fee study entitled “Asia-Pacific Economic Cooperation Business Travel Card Fee Study” is posted on the docket as supplemental materials on www.regulations.gov.

In addition to the U.S. ABTC fee, U.S. ABTC applicants will also experience an opportunity cost associated with obtaining a U.S. ABTC. As discussed above, CBP estimates U.S. ABTC applicants who are currently members of a CBP trusted traveler program will experience a one hour and 10 minute opportunity cost while U.S. ABTC applicants who are not members of a CBP trusted traveler program will experience a one hour and 40 minute opportunity cost. Additionally, U.S. ABTC applicants who are not members of a CBP trusted traveler program will also be required to pay the $100 fee associated with the Global Entry program.³³

³³ As discussed above, CBP anticipates U.S. ABTC applicants not currently members of a CBP trusted traveler program will join the Global Entry program.

The Department of Transportation's (DOT) guidance regarding the valuation of travel time for air passengers estimates a business traveler's value to be $57.20 per hour.³⁴ Using this estimate, the opportunity cost and fee described above, CBP estimates that it will cost a U.S. ABTC applicant who is currently a CBP trusted traveler program member approximately $137 to join the U.S. ABTC program ($57.20 × 1.17 hours = $66.92; $66.92 + $70 U.S. ABTC fee = $136.92).³⁵ For U.S. ABTC applicants who are not currently members of a CBP trusted traveler program, CBP estimates that it will cost approximately $266 to join the U.S. ABTC Program ($57.20 × 1.67 hours = $95.52; $95.52 + $100 Global Entry program fee + $70 U.S. ABTC fee = $265.52).³⁶

³⁴ “The Value of Travel Time Savings: Departmental Guidance for Conducting Economic Evaluations Revision 2 see Table 4), available at http://www.dot.gov/sites/dot.dev/files/docs/vot_guidance_092811c.pdf.

³⁵ CBP estimates that U.S. ABTC applicants who are currently in a CBP trusted traveler program will experience an opportunity cost of 10 minutes to complete a self-certification, schedule an appointment at an enrollment center, and have their signature digitally captured. Additionally, CBP estimates these applicants will experience an opportunity cost of 60 minutes to travel to and from an enrollment center in order to have their signature digitally captured. In total, CBP estimates U.S. ABTC applicants who are currently members of a CBP trusted traveler program will experience an opportunity cost of 70 minutes, or 1.17 hours (70 minutes ÷ 60 minutes = 1.17 hours).

³⁶ CBP estimates that U.S. ABTC applicants who are not currently in a CBP trusted traveler program will experience an opportunity cost of 40 minutes in order to complete the Global Entry application and the U.S. ABTC self-certification. Additionally, CBP estimates these applicants will experience an opportunity cost of 60 minutes in order to complete the interview for Global Entry and have their signature digitally captured for their U.S. ABTC. In total, CBP estimates U.S. ABTC applicants who are not currently members of a CBP trusted traveler program will experience an opportunity cost of 100 minutes, or 1.67 hours (100 minutes ÷ 60 minutes = 1.67 hours).

Due to the different membership periods for the CBP trusted traveler programs (five years) and the U.S. ABTC (three years), CBP notes that U.S. ABTC applicants who join a CBP trusted traveler program exclusively for the ability to obtain a U.S. ABTC and have renewed their U.S. ABTC (for a total of 6 years membership) will also incur the opportunity cost and fee associated with the Global Entry program when their Global Entry membership expires prior to their U.S. ABTC expiration date. CBP estimates that it will cost approximately $196 to renew a Global Entry membership in order to maintain a U.S. ABTC ($57.20 × 1.67 hours = $95.52; $95.52 + $100 Global Entry program fee = $195.52 The total present value cost of this rule, as shown in Table 5 below, will range from approximately $3.7 million to $5.3 million over a six-year period of analysis. The total annualized cost of this rule, using either a seven-percent or three-percent discount rate, will range from $0.7 million to 1.0 million.

Table 5—U.S. ABTC Applicants Not Currently in a CBP Trusted Traveler Program
Fiscal year | Projected U.S. ABTC enrollments (A): Initial | Projected U.S. ABTC enrollments (A): Renewals | Projected U.S. ABTC enrollments (A): Total | U.S. ABTC applicants not currently in a CBP trusted traveler program (B) = (Initial A × Percent): Low 25% | U.S. ABTC applicants not currently in a CBP trusted traveler program (B) = (Initial A × Percent): Primary 50% | U.S. ABTC applicants not currently in a CBP trusted traveler program (B) = (Initial A × Percent): High 75% | U.S. ABTC applicants requiring a 5-year global entry renewal (C): Low 25% | U.S. ABTC applicants requiring a 5-year global entry renewal (C): Primary 50% | U.S. ABTC applicants requiring a 5-year global entry renewal (C): High 75% | Total Cost (B × $266) + (C × $196): Low 25% | Total Cost (B × $266) + (C × $196): Primary 50% | Total Cost (B × $266) + (C × $196): High 75%
2013 | 6,375 |  | 6,375 | 1,594 | 3,188 | 4,781 |  |  |  | $424,004 | $848,008 | $1,271,746
2014 | 4,250 |  | 4,250 | 1,063 | 2,125 | 3,188 |  |  |  | 282,758 | 565,250 | 848,008
2015 | 2,125 |  | 2,125 | 531 | 1,063 | 1,594 |  |  |  | 141,246 | 282,758 | 424,004
2016 |  | 6,375 | 6,375 |  |  |  |  |  |  |  |  |
2017 |  | 4,250 | 4,250 |  |  |  |  |  |  |  |  |
2018 |  | 2,125 | 2,125 |  |  |  | 1,594 | 3,188 | 4,781 | 312,424 | 624,848 | 937,076
Subtotal |  |  |  | 3,188 | 6,376 | 9,563 | 1,594 | 3,188 | 4,781 | 1,160,432 | 2,320,864 | 3,480,834

U.S. ABTC Applicants Currently in a CBP Trusted Traveler Program
Fiscal year | Projected U.S. ABTC enrollments (A): Initial | Projected U.S. ABTC enrollments (A): Renewals | Projected U.S. ABTC enrollments (A): Total | U.S. ABTC applicants currently in a CBP trusted traveler program (D) = (Total A − B): Low | U.S. ABTC applicants currently in a CBP trusted traveler program (D) = (Total A − B): Primary | U.S. ABTC applicants currently in a CBP trusted traveler program (D) = (Total A − B): High | U.S. ABTC applicants requiring a 5-year global entry renewal (E): Low | U.S. ABTC applicants requiring a 5-year global entry renewal (E): Primary | U.S. ABTC applicants requiring a 5-year global entry renewal (E): High | Total cost (D × $137): Low | Total cost (D × $137): Primary | Total cost (D × $137): High
2013 | 6,375 |  | 6,375 | 4,781 | 3,187 | 1,594 | n/a | n/a | n/a | $654,997 | $436,619 | $218,378
2014 | 4,250 |  | 4,250 | 3,187 | 2,125 | 1,062 | n/a | n/a | n/a | 436,619 | 291,125 | 145,494
2015 | 2,125 |  | 2,125 | 1,594 | 1,062 | 531 | n/a | n/a | n/a | 218,378 | 145,494 | 72,747
2016 |  | 6,375 | 6,375 | 6,375 | 6,375 | 6,375 | n/a | n/a | n/a | 873,375 | 873,375 | 873,375
2017 |  | 4,250 | 4,250 | 4,250 | 4,250 | 4,250 | n/a | n/a | n/a | 582,250 | 582,250 | 582,250
2018 |  | 2,125 | 2,125 | 2,125 | 2,125 | 2,125 | n/a | n/a | n/a | 291,125 | 291,125 | 291,125
Subtotal |  |  |  | 22,312 | 19,124 | 15,937 | n/a | n/a | n/a | 3,056,744 | 2,619,988 | 2,183,369
Total |  |  |  | 25,500 | 25,500 | 25,500 | 1,594 | 3,188 | 4,781 | 4,217,176 | 4,940,852 | 5,664,203
7% present value (2013 dollars) |  |  |  |  |  |  | 3,652,877 | 4,269,235 | 4,885,332
3% present value (2013 dollars) |  |  |  |  |  |  | 3,953,615 | 4,626,437 | 5,298,965
7% annualized |  |  |  |  |  |  | 716,223 | 837,073 | 957,871
3% annualized |  |  |  |  |  |  | 708,570 | 829,154 | 949,685

6. Benefits

As stated earlier, the U.S. ABTC Program will enable card holders access to fast-track immigration lanes at airports in the 20 foreign APEC member economies. Although the ABTC program is new for U.S. citizens, it is a well-established program for the other APEC member economies. In an effort to quantify the benefits of the ABTC, APEC commissioned the report “Reducing Business Travel Costs: The Success of APEC's Business Mobility Initiatives” (APEC Report).³⁷ The APEC Report quantified seven key performance indicators, one of which quantifies the time savings an ABTC holder receives by using the fast-track immigration lanes. As shown in Table 6 below, the time savings each member's ABTC holders receive can vary greatly. CBP believes the weighted average time savings of approximately 43 minutes is an appropriate estimate of the time savings a U.S. ABTC holder will receive when clearing foreign immigration services using the fast-track immigration lanes.

³⁷ http://publications.apec.org/publication-detail.php?pub_id=1214.

As discussed above, the DOT's guidance regarding the valuation of travel time estimates a business traveler's value to be $57.20 per hour.³⁸ Using this value and the estimated time savings, CBP estimates each U.S. ABTC holder will save approximately $41 per visit to an APEC member economy (43 minutes ÷ 60 minutes = 0.72 hours; $57.20 × 0.72 hours = $41.18).

³⁸ “The Value of Travel Time Savings: Departmental Guidance for Conducting Economic Evaluations Revision 2. (See Table 4. Available at http://ostpxweb.dot.gov/policy/reports/vot_guidance_092811c.pdf).

Table 6—Key Performance Indicator 4—Total Time Savings Clearing Immigration at the Border by ABTC Holders
Economy | Average time savings/ABTC holder (minutes) | ABTC Holders (2011) | Total time savings by ABTC holders (minutes)
Australia | 46.52 | 24,286 | 1,129,713
Brunei Darussalam | 32.81 | 43 | 1,411
Chile | 49.33 | 416 | 20,520
China | 38.74 | 3,895 | 150,882
Hong Kong China | 26.28 | 10,659 | 280,137
Indonesia | 60.2 | 1,495 | 90,003
Japan | 51.49 | 2,541 | 130,840
South Korea | 43.26 | 8,422 | 364,351
Malaysia | 66.19 | 4,140 | 274,043
Mexico | 103.51 | 185 | 19,149
New Zealand | 48.11 | 6,538 | 314,527
Papua New Guinea | 27.03 | 22 | 595
Peru | 40.78 | 1,277 | 52,082
Philippines | 45.22 | 476 | 21,525
Singapore | 64.15 | 8,137 | 522,013
Thailand | 28.94 | 5,564 | 161,006
Vietnam | 24.29 | 8,730 | 212,011
Total | n/a | 86,826 | 3,744,808
Weighted Average | 43.13 | n/a | n/a
Source: Asia-Pacific Economic Cooperation. Reducing Business Travel Costs: The Success of APEC's Business Mobility Initiatives (2011). http://publications.apec.org/publication-detail.php?pub_id=1214.

7. Net Benefits

Because participation in the U.S. ABTC Program is voluntary, the perceived benefits of reduced wait time have to equal or exceed the cost of the program over three years for potential enrollees to determine whether or not the program is worthwhile. As discussed above, CBP estimates that each U.S. ABTC holder will save approximately $41 per trip by using the fast-track immigration lanes in foreign APEC member economies. Although CBP is unable to estimate the number of trips each individual U.S. ABTC holder will take to an APEC member economy, based on the estimated savings per trip, as described above, CBP can estimate the minimum number of trips a U.S. ABTC holder will have to take over the three year U.S. ABTC validity period for the benefits of the U.S. ABTC to equal or exceed the costs of obtaining a U.S. ABTC. CBP notes that this is a voluntary program and that individuals are likely to participate only if they expect to travel enough for the savings to offset the cost of obtaining a U.S. ABTC.

CBP estimates a U.S ABTC applicant who is currently enrolled in a CBP trusted traveler program will need to take a minimum of 4 trips, over three years, in order for the benefits of the U.S. ABTC Program to exceed the cost associated with joining the program ($137 U.S. ABTC opportunity cost and fee ÷ $41 saving per trip = 3.3 trips).

In addition to the $41 savings per trip to an APEC member economy, CBP estimates a U.S. ABTC applicant who is not currently a CBP trusted traveler member will also save an additional $7 by using a Global Entry kiosk for expedited CBP clearance upon returning to the United States from an APEC economy (7 minutes ÷ 60 minutes = 0.12 hours; 0.12 hours x $57.20 = $6.86).³⁹ CBP estimates a U.S. ABTC applicant who is not currently a CBP trusted traveler member will need to take a minimum of 6 round trips between the United States and an APEC member economy, over three years, in order for the benefits of the U.S. ABTC Program to exceed the cost associated with joining the program ($41 savings + $7 savings = $48 savings; $266 U.S. ABTC and Global Entry opportunity cost and fees ÷ $48 savings = 5.5).

³⁹ 77 FR 5681 (Feb. 6, 2012).

C. The Regulatory Flexibility Act

This section examines the impact of the rule on small entities as required by the Regulatory Flexibility Act (5 U.S.C. 601 et. seq.), as amended by the Small Business Regulatory Enforcement and Fairness Act of 1996. A small entity may be a small business (defined as any independently owned and operated business not dominant in its field that qualifies as a small business per the Small Business Act); a small not-for-profit organization; or a small governmental jurisdiction (locality with fewer than 50,000 people).

Although this rule regulates people and not businesses, a U.S. citizen is required to be either a bona fide U.S. business person engaged in business in the APEC region or a U.S. Government official actively engaged in APEC business in order to qualify for a U.S. ABTC.⁴⁰ Therefore, CBP has considered the impact of this rule on small entities.

⁴⁰ The ABTC may only be used by a bona fide business person engaged in business in the APEC region or a U.S. Government official actively engaged in APEC business. The card holder must be traveling solely for business purposes in the foreign APEC economy and not engaging in paid employment in the foreign APEC economy. “APEC business” means U.S. government activities that support the work of APEC. A “bona fide business person engaged in business in the APEC region” means a person engaged in the trade of goods, the provision of services or the conduct of investment activities in the APEC region. Professional athletes, news correspondents, entertainers, musicians, artists or persons engaged in similar occupations are not considered to be bona fide business travelers engaged in business in the APEC region.

The U.S. ABTC Program is voluntary and has a cost of approximately $137 if a U.S. ABTC applicant is a current member of a CBP trusted traveler program or approximately $266 if a U.S. ABTC applicant must concurrently apply for a U.S. ABTC and a CBP trusted traveler program. While the U.S. ABTC applicant will bear the cost associated with obtaining a U.S. ABTC, a business may voluntarily reimburse the applicant for the fee and his or her opportunity cost. CBP cannot estimate the number of small entities that will voluntarily reimburse its employees. CBP recognizes, however, that it is possible that a substantial number of small entities will be impacted by this regulation. However, CBP does not believe a cost of either $137 or $266, depending on whether a U.S. ABTC applicant is currently enrolled in a CBP trusted traveler program, constitutes a significant economic impact. As discussed above, a U.S. ABTC holder will save approximately 43 minutes, or approximately $41, per trip in opportunity costs which can be put to productive APEC business related use. Additionally, after approximately 4 or 6 trips to an APEC member economy, the benefits of an ABTC will exceed the full cost of obtaining a U.S. ABTC (fee + opportunity cost). CBP also notes that a one-time expense of $137 or $266, depending on whether the U.S. ABTC applicant is currently enrolled in a CBP trusted traveler program, is a fraction of the cost of frequent trans-Pacific travel.

Thus, CBP certifies this regulation will not have a significant economic impact on a substantial number of small entities.

D. Unfunded Mandates Reform Act of 1995

This rule will not result in the expenditure by State, local, and tribal governments, in the aggregate, or by the private sector, of $100 million or more in any one year, and it will not significantly or uniquely affect small governments. Therefore, no actions are necessary under the provisions of the Unfunded Mandates Reform Act of 1995.

E. Executive Order 13132

The rule will not have substantial direct effects on the States, on the relationship between the National Government and the States, or on the distribution of power and responsibilities among the various levels of government. Therefore, in accordance with section 6 of Executive Order 13132, this rule does not have sufficient federalism implications to warrant the preparation of a federalism summary impact statement.

F. Paperwork Reduction Act

The collections of information in this document are under review by OMB in accordance with the requirements of the Paperwork Reduction Act (44 U.S.C. 3507) under control number 1651-0121. An agency may not conduct or sponsor, and a person is not required to respond to, a collection of information unless it displays a valid control number assigned by OMB. The collections of information in these regulations are contained in Title 8, Part 235 of the CFR. CBP is revising this collection by adding new data elements for the U.S. ABTC Program to GOES. This information is required in order for respondents to voluntarily apply for this program. CBP will use this information to verify eligibility in this program. These proposed revisions to OMB clearance 1651-0121 for the U.S. ABTC Program application will result in the following estimated increase to the burden hours ⁴¹:

⁴¹ We estimate that a total 4,250 applicants will enroll in the U.S. ABTC Program each year. However, as described in the 12866 and 13563 section above, half of these applicants will apply concurrently with a CBP trusted traveler program. Since this is done by simply checking the U.S. ABTC box and completing the self-certification there is no additional time burden to apply for the U.S. ABTC for these applicants. As such, we include only the 2,125 applicants who apply solely for a U.S. ABTC here. The time burden for those who apply concurrently for a U.S. ABTC and a CBP trusted traveler program is captured in the 40 minutes for the additional 2,125 Global Entry applicants.

Estimated number of respondents annually: 2,125.

Estimated average annual burden per respondent: 10 minutes.

Estimated total annual reporting burden: 361 hours.

CBP also anticipates an increase in the number of Global Entry applications as a result of the U.S. ABTC Program. This will result in the following estimated increase to the burden hours:

Global Entry Applications:

Estimated number of respondents annually: 2,125.

Estimated average annual burden per respondent: 40 minutes.

Estimated total annual reporting burden: 1,424 hours.

Comments concerning the collections of information should be directed to the Office of Management and Budget, Attention: Desk Officer for U.S. Customs and Border Protection, Department of Homeland Security, Office of Information and Regulatory Affairs, Washington, DC 20503. A copy should also be sent to the Border Security Regulations Branch, Regulations and Rulings, U.S. Customs and Border Protection, 90 K Street NE., 10th floor, Washington, DC 20229-1177.

G. Privacy

DHS will ensure that all Privacy Act requirements and policies are adhered to in the implementation of this rule, and will be updating the Privacy Act Impact Assessment and System of Records Notice, which will fully outline processes to ensure compliance with Privacy Act protections.

H. Signing Authority

The signing authority for this document falls under 19 CFR 0.2(a). Accordingly, this interim final rule is signed by the Secretary of Homeland Security.

IV. Authority

This regulation is issued under the authority of 5 U.S.C. 301, 6 U.S.C. 112, 203 and 211, 8 U.S.C. 1103 and 19 U.S.C. 2, 66 and 1624, and Public Law 112-54.

List of Subjects

8 CFR Part 103

Administrative practice and procedure, Authority delegations (Government agencies), Freedom of information, Immigration, Privacy, Reporting and recordkeeping requirements, Surety bonds.

8 CFR Part 235

Administrative practice and procedure, Aliens, Immigration, Reporting and recordkeeping requirements.

Amendments to Regulations

For the reasons set forth in this document, 8 CFR parts 103 and 235 are amended as follows:

PART 103—IMMIGRATION BENEFITS; BIOMETRIC REQUIREMENTS; AVAILABILITY OF RECORDS

1. The authority citation for part 103 is revised to read as follows:

Authority: 5 U.S.C. 301, 552, 552a; 8 U.S.C. 1101, 1103, 1304, 1356, 1365b; 31 U.S.C. 9701; Public Law 107-296, 116 Stat. 2135 (6 U.S.C. 1 et seq.); E.O. 12356, 47 FR 14874, 15557, 3 CFR, 1982 Comp., p.166; 8 CFR part 2; Pub. L. 112-54.

2. In § 103.7, paragraph (b)(1)(ii)(N) is added to read as follows:

§ 103.7 Fees.

* * * * *

(b) * * *

(1) * * *

(ii) * * *

(N) U.S. Asia-Pacific Economic Cooperation (APEC) Business Travel Card. For filing an application for the card—$70.

* * * * *

PART 235—INSPECTION OF PERSONS APPLYING FOR ADMISSION

3. The authority citation for part 235 is revised to read as follows:

Authority: 8 U.S.C. 1101 and note, 1103, 1183, 1185 (pursuant to E.O. 13323, 69 FR 241, 3 CFR, 2004 Comp., p.278), 1201, 1224, 1225, 1226, 1228, 1365a note, 1365b, 1379, 1731-32; Title VII of Public Law 110-229; 8 U.S.C. 1185 note (section 7209 of Pub. L. 108-458); Pub. L. 112-54.

4. A new § 235.13 is added to read as follows:

§ 235.13 U.S. Asia-Pacific Economic Cooperation Business Travel Card Program.

(a) Description. The U.S. Asia-Pacific Economic Cooperation (APEC) Business Travel Card Program is a voluntary program designed to facilitate travel for bona fide U.S. business persons engaged in business in the APEC region and U.S. government officials actively engaged in APEC business within the APEC region. Participants will receive a U.S. APEC Business Travel Card that will enable them access to fast-track immigration lanes at participating airports in foreign APEC member economies. In order to obtain a U.S. APEC Business Travel Card, an individual must meet the eligibility requirements specified in this section, apply in advance, pay any requisite fee and be approved as a card holder. The APEC member economies are identified at http://www.apec.org.

(b) Program eligibility criteria—(1) Eligible individuals. An individual is eligible for the U.S. APEC Business Travel Card if he or she is:

(i) A U.S. citizen;

(ii) An existing member in good standing of a CBP trusted traveler program or approved for membership in a CBP trusted traveler program during the application process described in paragraph (c) of this section; and

(iii) A bona fide U.S. business person engaged in business in the APEC region or U.S. Government official actively engaged in APEC business.

(A) “APEC business” means U.S. government activities that support the work of APEC.

(B) A “bona fide business person engaged in business in the APEC region” means a person engaged in the trade of goods, the provision of services, or the conduct of investment activities in the APEC region. Professional athletes, news correspondents, entertainers, musicians, artists or persons engaged in similar occupations are not considered to be bona fide business persons engaged in business in the APEC region.

(2) Conditions regarding the use of the U.S. APEC Business Travel Card. (i) The U.S. APEC Business Travel Card is not transferable and may be used only by the U.S. APEC Business Travel Card holder and not by anyone else including the card holder's spouse or child.

(ii) The U.S. APEC Business Travel Card can be used only if the card holder is traveling solely for business purposes to a foreign APEC member economy and is not engaging in paid employment in the foreign APEC member economy.

(c) Application process. (1) Each applicant must complete and submit an application electronically through the Global Entry Enrollment System (GOES) or other applicable process as determined by CBP. The application and application instructions for the card are available as an add-on to the CBP trusted traveler application at www.globalentry.gov.

(2) Each applicant must certify that he or she is an existing member in good standing in a CBP trusted traveler program or that he or she has submitted an application to a CBP trusted traveler program; that he or she is a bona fide U.S. business person engaged in business in the APEC region or U.S. Government official actively engaged in APEC business; and, that he or she is not a professional athlete, news correspondent, entertainer, musician, artist or person engaged in a similar occupation.

(3) Each applicant must provide his or her signature so that the signature will appear on the face of the card.

(4) If the applicant is not a member of a CBP trusted traveler program, the applicant must concurrently apply for membership in a CBP trusted traveler program and be approved for such membership. Applicants for a CBP trusted traveler program must have an in-person interview, undergo a vetting process and pay the relevant CBP trusted traveler fee. Active membership in a CBP trusted traveler program is necessary for the entire duration of the U.S. APEC Business Travel Card. If membership in the CBP trusted traveler program is set to lapse before the U.S. APEC Business Travel Card expires, the individual must renew his or her CBP trusted traveler membership prior to its expiration date in order to retain membership in the U.S. APEC Business Travel Card Program.

(5) Each applicant must pay a non-refundable fee in the amount set forth at 8 CFR 103.7(b)(1)(ii)(N) for “U.S. Asia-Pacific Economic Cooperation (APEC) Business Travel Card” at the time of application. The fee is to be paid to CBP at the time of application through the Federal Government's on-line payment system, Pay.gov or other CBP-approved process.

(6) The U.S. APEC Business Travel Card is valid for a period of 3 years or until the expiration date of the card holder's passport if that is earlier, provided that membership is not suspended or terminated by CBP prior to the end of this period. CBP can terminate use of the U.S. APEC Business Travel Card if the card holder is no longer a member of a CBP trusted traveler program or if the individual is not compliant with the program requirements. Each applicant may apply to renew the card prior to its expiration.

(d) Expedited entry privileges. The U.S. APEC Business Travel Card will enable card holders access to a dedicated fast-track lane for expedited immigration processing at participating airports in foreign APEC member economies.

(e) Entry requirements. U.S. APEC Business Travel Card holders must present any travel or identity documentation, such as a passport and visa, required by the foreign APEC member economies.

(f) Denial, removal and suspension. (1) If an applicant is denied a U.S. APEC Business Travel Card, CBP will notify the applicant of the denial, and the reasons for the denial. CBP will also provide instructions regarding how to proceed if the applicant wishes to seek additional information as to the reason for the denial.

(2) A U.S. APEC Business Travel Card holder may be suspended or removed from the U.S. APEC Business Travel Card Program if CBP determines at its sole discretion that:

(i) The U.S. APEC Business Travel Card holder provided false information in the application and/or during the application process;

(ii) The U.S. APEC Business Travel Card holder failed to follow the terms, conditions and requirements of the program (including continued active membership in a CBP trusted traveler program);

(iii) The U.S. APEC Business Travel Card holder has been arrested or convicted of a crime or otherwise no longer meets the program eligibility criteria; or

(iv) Such action is otherwise necessary.

(3) CBP will notify the U.S. APEC Business Travel Card holder of his or her suspension or removal in writing. Such suspension or removal is effective immediately.

(4) A U.S. APEC Business Travel Card applicant or a U.S. APEC Business Travel Card holder who is denied, suspended, or removed will not receive a refund, in whole or in part, of the application fee.

(g) Redress. An individual whose application is denied or whose participation is suspended or terminated has two possible methods of redress. These processes do not create or confer any legal right, privilege, or benefit on the applicant or participant, and are wholly discretionary on the part of CBP. The methods of redress are:

(1) Enrollment center. If the applicant or participant applied concurrently for the U.S. APEC Business Travel Card and a CBP trusted traveler program, the applicant or participant may contest his or her denial, suspension or removal by writing to the enrollment center where that individual's CBP trusted traveler program interview was conducted. If the applicant or participant was already a member of a CBP trusted traveler program, the applicant or participant may contest his or her denial, suspension or removal by writing to the enrollment center where that individual's signature was collected for the U.S. APEC Business Travel Card. The enrollment center addresses are available at www.globalentry.gov, http://www.globalentry.gov/nexus.html and http://www.globalentry.gov/sentri.html. The letter must be received by CBP within 30 calendar days of the date provided as the date of suspension or removal. The individual should write on the envelope “Redress Request RE: U.S. APEC Business Travel Card.” The letter should address any facts or conduct listed in the notification from CBP as contributing to the denial, suspension or removal and why the applicant or participant believes the reason for the action is invalid. If the applicant or participant believes that the denial, suspension or removal was based upon inaccurate information, the individual should also include any reasonably available supporting documentation with the letter. After review, CBP will inform the individual of its redress decision. If the individual's request for redress is successful, the individual's eligibility to be a U.S. APEC Business Travel Card holder will continue immediately.

(2) Ombudsman. Applicants and participants may contest a denial, suspension or removal by writing to the CBP Trusted Traveler Ombudsman at the address listed on the Web site www.globalentry.gov.

(h) Duration of U.S. APEC Business Travel Card Program. DHS will issue U.S. APEC Business Travel Cards through September 30, 2018. Unless suspended or revoked, U.S. APEC Business Travel Cards issued on or before September 30, 2018 are valid until their expiration date, even if the expiration date is after September 30, 2018.

Jeh Charles Johnson,
Secretary.

[FR Doc. 2014-10767 Filed 5-12-14; 8:45 am]

BILLING CODE 9111-14-P